DEPARTMENT OF COMMERCE

International Trade Administration

[A-583-848]

Stilbenic Optical Brightening Agents From Taiwan: Preliminary Results of Antidumping Duty Administrative Review; 2022

AGENCY: Enforcement and Compliance, International Trade Administration, Department of Commerce.

SUMMARY: The U.S. Department of Commerce (Commerce) preliminarily determines that Teh Fong Min International Co., Ltd., also known as Teh Fong Ming International Co., Ltd. (TFM), the sole producer and/or exporter subject to this administrative review, made sales of stilbenic optical brightening agents (OBAs) at less than normal value during the period of review (POR) May 1, 2022, through November 26, 2022. We invite interested parties to comment on these preliminary results.

DATES: Applicable February 2, 2024.

FOR FURTHER INFORMATION CONTACT: Joshua Weiner, AD/CVD Operations, Office I, Enforcement and Compliance, International Trade Administration, U.S. Department of Commerce, 1401 Constitution Avenue NW, Washington, DC 20230; telephone: (202) 482-3902.

SUPPLEMENTARY INFORMATION:

Background

On May 10, 2012, we published in the Federal Register the antidumping duty (AD) order on OBAs from Taiwan.¹ On May 2, 2023, we published in the Federal Register a notice of opportunity to request an administrative review of the Order for the POR.² In May 2023, Archroma, U.S., Inc. (Archroma), a U.S. producer of OBAs, timely requested an administrative review of TFM.³ Additionally, TFM and its affiliated U.S. importer TFM North America, Inc requested a review of TFM.⁴ On July 12, 2023, we initiated this administrative review with respect to TFM.⁵

¹ See Certain Stilbenic Optical Brightening Agents from Taiwan: Amended Final Determination of Sales at Less Than Fair Value and Antidumping Duty Order, 77 FR 27419 (May 10, 2012) (Order).

² See Antidumping or Countervailing Duty Order, Finding, or Suspended Investigation; Opportunity to Request Administrative Review and Join Annual Inquiry Service List, 88 FR 27445, 27447 (May 2, 2023).

³ See Archroma's Letter, “Request for Administrative,” dated May 31, 2023.

⁴ See TFM's Letter, “Certain Stilbenic Optical Brightening Agents (CSOBA) from Taiwan,” dated May 30, 2023.

⁵ See Initiation of Antidumping and Countervailing Duty Administrative Reviews, 88 FR 44262, 44268 (July 12, 2023).

On December 29, 2022, Commerce revoked the Order effective November 27, 2022.⁶ Because only entries of subject merchandise “prior to the effective date of revocation will continue to be subject to suspension of liquidation and AD deposit requirements,” ⁷ the POR for this administrative review is abbreviated (i.e., May 1, 2022, through November 26, 2022).⁸

⁶ See Stilbenic Optical Brightening Agents from People's Republic of China and Taiwan: Final Results of Sunset Reviews and Revocation of Order, 87 FR 80162 (December 29, 2022) (Revocation Notice).

⁷ Id. 87 FR at 80163.

⁸ Id.

For a complete description of the events that followed the initiation of this administrative review, see the Preliminary Decision Memorandum.⁹ The Preliminary Decision Memorandum is a public document and is made available to the public via Enforcement and Compliance's Antidumping and Countervailing Duty Centralized Electronic Service System (ACCESS). ACCESS is available to registered users at https://access.trade.gov. In addition, a complete version of the Preliminary Decision Memorandum is available at https://access.trade.gov/public/FRNoticesListLayout.aspx. A list of the topics discussed in the Preliminary Decision Memorandum is attached as an Appendix to this notice.

⁹ See Memorandum, “Decision Memorandum for the Preliminary Results of Antidumping Duty Administrative Review of Certain Stilbenic Optical Brightening Agents from Taiwan; 2022,” dated concurrently with, and hereby adopted by, this notice (Preliminary Decision Memorandum).

Scope of the Order

The products covered by the Order are OBAs. A full description of the scope of the Order is contained in the Preliminary Decision Memorandum.

Methodology

Commerce is conducting this review in accordance with section 751(a) of the Tariff Act of 1930, as amended (the Act). Export price and constructed export price are calculated in accordance with section 772 of the Act. Normal value is calculated in accordance with section 773 of the Act. For a full description of the methodology underlying these preliminary results, see the Preliminary Decision Memorandum.

Preliminary Results of the Administrative Review

As a result of this review, we preliminarily determine that the following estimated weighted-average dumping margin exists for the POR May 1, 2022, through November 26, 2022:

Producer and/or exporter | Weighted- average dumping margin (percent)
Teh Fong Min International Co., Ltd/Teh Fong Ming International Co., Ltd | 1.04

Disclosure and Public Comment

We intend to disclose the calculations performed in connection with these preliminary results to interested parties within five days after public announcement of these preliminary results.¹⁰

¹⁰ See 19 CFR 351.224(b).

Interested parties may submit case briefs to the Assistant Secretary for Enforcement and Compliance no later than 30 days after the date of publication of this notice.¹¹ Rebuttal briefs, limited to issues raised in the case briefs, may be filed no later than five days after the date for filing case briefs.¹² Interested parties who submit case or rebuttal briefs in this proceeding must submit: (1) a table of contents listing each issues; and (2) a table of authorities.¹³

¹¹ See 19 CFR 351.309(c)(1)(ii); see also 19 CFR 351.303 (for general filing requirements).

¹² See 19 CFR 351.309(d); see also Administrative Protective Order, Service, and Other Procedures in Antidumping and Countervailing Duty Proceedings, 88 FR 67069, 67077 (September 29, 2023) (APO and Service Final Rule).

¹³ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public executive summary for each issue raised in their briefs.¹⁴ Further, we request that interested parties limit their executive summary of each issue to no more than 450 words, not including citations. We intend to use the executive summaries as the basis of the comment summaries included in the issues and decision memorandum that will accompany the final results of this review. We request that interested parties include footnotes for relevant citations in the executive summary of each issue. Note that Commerce has amended certain requirements pertaining to the service of documents in 19 CFR 351.303(f).¹⁵

¹⁴ We use the term “issue” here to describe an argument that Commerce would normally address in a comment of the Issues and Decision Memorandum.

¹⁵ See APO and Service Final Rule.

Pursuant to 19 CFR 351.310(c), interested parties who wish to request a hearing, must submit a written request to the Assistant Secretary for Enforcement and Compliance, filed electronically via ACCESS. Requests should contain: (1) the party's name, address, and telephone number; (2) the number of participants; (3) whether any participant is a foreign national; and (4) a list of the issues to be discussed. Issues raised in the hearing will be limited to those raised in the respective case and rebuttal briefs. An electronically filed hearing request must be received successfully in its entirety by Commerce's electronic records system, ACCESS, by 5:00 p.m. Eastern Time within 30 days after the date of publication of this notice. If a request for a hearing is made, Commerce intends to hold the hearing at a time and date to be determined.¹⁶ Parties should confirm by telephone the date, time, and location of the hearing two days before the scheduled date.

¹⁶ See 19 CFR 351.310(d).

Final Results of Review

Commerce intends to issue the final results of this administrative review, including the results of its analysis of the issues raised in any written briefs, no later than 120 days after the date of publication of these preliminary results in the Federal Register, unless extended, pursuant to section 751(a)(3)(A) of the Act and 19 CFR 351.213(h)(1).

Assessment Rates

Upon completion of the final results, Commerce shall determine, and U.S. Customs and Border Protection (CBP) shall assess, antidumping duties on all appropriate entries. If the weighted-average dumping margin for TFM is not zero or de minimis (i.e., less than 0.50 percent) in the final results of this review, we intend to calculate an importer-specific assessment rate based on the ratio of the total amount of dumping calculated for each importer's examined sales and the total entered value of those same sales in accordance with 19 CFR 351.212(b)(1).¹⁷ If TFM's weighted-average dumping margin or an importer-specific assessment rate is zero or de minimis in the final results of review, we will instruct CBP to liquidate appropriate entries without regard to antidumping duties.¹⁸

¹⁷ See Antidumping Proceedings: Calculation of the Weighted-Average Dumping Margin and Assessment Rate in Certain Antidumping Duty Proceedings; Final Modification, 77 FR 8101, 8103 (February 14, 2012).

¹⁸ Id. at 8102-03; see also 19 CFR 351.106(c)(2).

For entries of subject merchandise during the POR produced by TFM for which it did not know its merchandise was destined for the United States, we will instruct CBP to liquidate such entries at the all-others rate (i.e., 6.19 percent) ¹⁹ if there is no rate for the intermediate company(ies) involved in the transaction.²⁰

¹⁹ See Order, 77 FR at 27420.

²⁰ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In the Revocation Notice, Commerce stated that it intends to issue instructions to CBP to terminate the suspension of liquidation and to discontinue the collection of cash deposits on entries of subject merchandise, entered or withdrawn from the warehouse, on or after November 27, 2022.²¹ Furthermore, because the Order has been revoked, Commerce will not issue cash deposit instructions at the conclusion of this administrative review.

²¹ See Revocation Notice, 87 FR at 80163.

Notification to Importers

This notice also serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

Commerce is issuing and publishing these preliminary results in accordance with sections 751(a)(1) and 777(i) of the Act and 19 CFR 351.221(b)(4).

Dated: January 29, 2024.
Abdelali Elouaradia,
Deputy Assistant Secretary for Enforcement and Compliance.

Appendix

List of Topics Discussed in the Preliminary Decision Memorandum

I. Summary

II. Background

III. Scope of the Order

IV. Discussion of the Methodology

V. Currency Conversion

VI. Recommendation

[FR Doc. 2024-02138 Filed 2-1-24; 8:45 am]

BILLING CODE 3510-DS-P